OFFICE OF PERSONNEL MANAGEMENT

5 CFR Part 532

RIN 3206-AL71

Prevailing Rate Systems; Redefinition of the Buffalo, NY, and Pittsburgh, PA, Appropriated Fund Federal Wage System Wage Areas

AGENCY: U.S. Office of Personnel Management.

ACTION: Proposed rule with request for comments.

SUMMARY: The U.S. Office of Personnel Management is issuing a proposed rule that would redefine the geographic boundaries of the Buffalo, NY, and Pittsburgh, PA, appropriated fund Federal Wage System (FWS) wage areas. The proposed rule would redefine McKean and Warren Counties, PA, and the Allegheny National Forest portions of Elk and Forest Counties, PA, from the Pittsburgh wage area to the Buffalo wage area. These changes are based on a recent consensus recommendation of the Federal Prevailing Rate Advisory Committee to best match the counties proposed for redefinition to a nearby FWS survey area. No other changes are proposed for the Buffalo or Pittsburgh FWS wage areas.

DATES: We must receive comments on or before November 6, 2008.

ADDRESSES: Send or deliver comments to Charles D. Grimes III, Deputy Associate Director for Performance and Pay Systems, Strategic Human Resources Policy Division, U.S. Office of Personnel Management, Room 7H31, 1900 E Street, NW., Washington, DC 20415-8200; e-mail pay-performance-policy@opm.gov; or FAX: (202) 606-4264.

FOR FURTHER INFORMATION CONTACT: Madeline Gonzalez, (202) 606-2838; e-mail pay-performance-policy@opm.gov; or FAX: (202) 606-4264.

SUPPLEMENTARY INFORMATION: The U.S. Office of Personnel Management (OPM) is proposing to redefine the Buffalo, NY, and Pittsburgh, PA, appropriated fund Federal Wage System (FWS) wage areas. This proposed rule would redefine McKean and Warren Counties, PA, and the Allegheny National Forest portions of Elk and Forest Counties, PA, from the Pittsburgh wage area to the Buffalo wage area.

OPM considers the following regulatory criteria under 5 CFR 532.211 when defining FWS wage area boundaries:

(i) Distance, transportation facilities, and geographic features;

(ii) Commuting patterns; and

(iii) Similarities in overall population, employment, and the kinds and sizes of private industrial establishments.

Elk, Forest, McKean, and Warren Counties are currently area of application counties in the Pittsburgh FWS wage area. Located in the northwestern section of the State of Pennsylvania, Elk, Forest, McKean, and Warren Counties include portions of the Allegheny National Forest.

Based on our analysis of the regulatory criteria for defining appropriated fund FWS wage areas, we find that McKean and Warren Counties would be more appropriately defined as part of the Buffalo area of application. The distance criterion is the major factor in our determination. McKean and Warren Counties are closer to the Buffalo survey area than to the Pittsburgh survey area. McKean County is approximately 157 km (98 miles) from Buffalo and 277 km (172 miles) from Pittsburgh. Warren County is approximately 153 km (95 miles) from Buffalo and 257 km (160 miles) from Pittsburgh. We reviewed the other criteria, but they did not favor one wage area more than another.

Analysis of OPM's regulatory criteria for Elk and Forest Counties does not show a clear indication that Elk and Forest Counties should be placed in a different FWS wage area. However, the southern part of the Allegheny National Forest is located in portions of Elk and Forest Counties. Since part of the Forest would therefore fall within the boundaries of two separate wage areas, we also propose that the Allegheny National Forest portions of Elk and Forest Counties be redefined to the Buffalo area of application. This would continue to place the Allegheny National Forest in a single wage area and would provide equal pay treatment for FWS employees with employment locations in the Forest. The remaining portion of Elk and Forest Counties would continue to be part of the Pittsburgh wage area. We believe the mixed nature of our regulatory analysis findings indicates that the remaining employment locations in Elk and Forest Counties remain appropriately defined to the Pittsburgh wage area.

The Federal Prevailing Rate Advisory Committee (FPRAC), the national labor-management committee responsible for advising OPM on matters concerning the pay of FWS employees, recommended these changes by consensus. FPRAC recommended no other changes in the geographic definitions of the Buffalo and Pittsburgh wage areas. The affected employees in Elk, Forest, McKean, and Warren Counties would be placed on the wage schedule for the Buffalo wage area on the first day of the first applicable pay period beginning on or after 30 days following publication of the final regulations.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Michael W. Hager,
Acting Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

2. In appendix C to subpart B, the wage area listing for the State of New York is amended by revising the listing for Buffalo; and for the State of Pennsylvania, by revising the listing for Pittsburgh, to read as follows:

Appendix C to Subpart B of Part 532—Appropriated Fund Wage and Survey Areas

* * * * *

NEW YORK

* * * * *

Buffalo

Survey Area

New York:

Erie

Niagara

Area of Application. Survey area plus:

New York:

Cattaraugus

Chautauqua

Pennsylvania:

Elk (Only includes the Allegheny National Forest portion)

Forest (Only includes the Allegheny National Forest portion)

McKean

Warren

* * * * *

PENNSYLVANIA

* * * * *

Pittsburgh

Survey Area

Pennsylvania:

Allegheny

Beaver

Butler

Washington

Westmoreland

Area of Application. Survey area plus:

Pennsylvania:

Armstrong

Bedford

Blair

Cambria

Cameron

Centre

Clarion

Clearfield

Clinton

Crawford

Elk (Does not include the Allegheny National Forest portion)

Erie

Fayette

Forest (Does not include the Allegheny National Forest portion)

Greene

Huntingdon

Indiana

Jefferson

Lawrence

Mercer

Potter

Somerset

Venango

Ohio:

Belmont

Carroll

Harrison

Jefferson

Tuscarawas

West Virginia:

Brooke

Hancock

Marshall

Ohio

* * * * *

[FR Doc. E8-23725 Filed 10-6-08; 8:45 am]

BILLING CODE 6325-39-P